DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on August 14, 2025. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On August 14, 2025, OFAC determined that the property and interests in property subject to U.S. jurisdiction of the following persons are blocked under the relevant sanctions authorities listed below.

Individuals

1. KARAVATSKY, Pavel (a.k.a. KARAVATSKII, Pavel Yuryevich (Cyrillic: КАРАВАЦКИЙ, Павел Юрьевич); a.k.a. KARAVATSKIY, Pavel), Russia; DOB 25 Jan 1983; nationality Russia; Gender Male; Secondary sanctions risk: Ukraine-/Russia-Related Sanctions Regulations, 31 CFR 589.201; Tax ID No. 503508082690 (Russia) (individual) [CYBER4] (Linked To: GARANTEX EUROPE OU).

Designated pursuant to section 1(a)(iii)(D) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659, and as further amended by Executive Order 14144 of January 16, 2025, “Strengthening and Promoting Innovation in the Nation's Cybersecurity,” 90 FR 6755, and Executive Order 14306 of June 6, 2025, “Sustaining Select Efforts To Strengthen the Nation's Cybersecurity and Amending Executive Order 13694 and Executive Order 14144,” 90 FR 24723 (E.O. 13694, as further amended), for being owned or controlled by, or having acted or purported to act for or on behalf of, directly or indirectly, GARANTEX EUROPE OU, a person whose property and interests in property are blocked pursuant to E.O. 13694, as further amended.

2. MENDELEEV, Sergey (Cyrillic: МЕНДЕЛЕЕВ, Сергей), Russia; DOB 02 Nov 1976; nationality Russia; Gender Male; Secondary sanctions risk: Ukraine-/Russia-Related Sanctions Regulations, 31 CFR 589.201 (individual) [CYBER4] (Linked To: GARANTEX EUROPE OU). Designated pursuant to section 1(a)(iii)(D) of E.O. 13694, as further amended, for being owned or controlled by, or having acted or purported to act for or on behalf of, directly or indirectly, GARANTEX EUROPE OU, a person whose property and interests in property are blocked pursuant to E.O. 13694, as further amended.

3. MIRA SERDA, Aleksandr Khoseluisovich (Cyrillic: МИРА СЕРДА, Александр Хоселуисович) (a.k.a. MIRA SERDA, Alexander Joseluisovich; a.k.a. NTIFO SIAW, Alexander; a.k.a. NTIFO-SIAO, Aleksandr Edvardovich (Cyrillic: НТИФО-СИAO, Александр Эдвардович)), 26-6 Pr. Uria Gagarina, 37, Saint Petersburg 196135, Russia; DOB 31 May 1984; POB Saint Petersburg, Russia; nationality Russia; alt. nationality Ghana; Gender Male; Secondary sanctions risk: Ukraine-/Russia-Related Sanctions Regulations, 31 CFR 589.201; National ID No. 4005295732 (Russia); Tax ID No. 781017931306 (Russia) (individual) [CYBER4] (Linked To: GARANTEX EUROPE OU).

Designated pursuant to section 1(a)(iii)(D) of E.O. 13694, as further amended, for being owned or controlled by, or having acted or purported to act for or on behalf of, directly or indirectly, GARANTEX EUROPE OU, a person whose property and interests in property are blocked pursuant to E.O. 13694, as further amended.

Entities

1. A7 AGENT LIMITED LIABILITY COMPANY (a.k.a. OBSHCHESTVO S OGRANICHENNOI OTVETSTVENNOSTYU A7 AGENT; a.k.a. “A7 AGENT LLC”), Ul. Lesnaya D. 9 Pomeshch. 2/10, Moscow 125196, Russia; Secondary sanctions risk: Ukraine-/Russia-Related Sanctions Regulations, 31 CFR 589.201; Organization Established Date 26 Sep 2024; Organization Type: Other financial service activities, except insurance and pension funding activities, n.e.c.; Tax ID No. 9710138144 (Russia); Registration Number 1247700638570 (Russia) [CYBER4] (Linked To: A7 LIMITED LIABILITY COMPANY).

Designated pursuant to section 1(a)(iii)(D) of E.O. 13694, as further amended, for being owned or controlled by, or having acted or purported to act for or on behalf of, directly or indirectly, A7 LIMITED LIABILITY COMPANY, a person whose property and interests in property are blocked pursuant to E.O. 13694, as further amended.

2. A7 LIMITED LIABILITY COMPANY (a.k.a. OBSHCHESTVO S OGRANICHENNOI OTVETSTVENNOSTYU A7; a.k.a. “A7 LLC”; a.k.a. “OOO A7”), Ul. Lesnaya D. 9 Pomeshch. 2/10, Moscow 125196, Russia; Secondary sanctions risk: Ukraine-/Russia-Related Sanctions Regulations, 31 CFR 589.201; Organization Established Date 02 Sep 2024; Organization Type: Other financial service activities, except insurance and pension funding activities, n.e.c.; Tax ID No. 9710137165 (Russia); Registration Number 1247700586891 (Russia) [CYBER4] (Linked To: GARANTEX EUROPE OU).

Designated pursuant to section 1(a)(iii)(C) of E.O. 13694, as further amended, for having materially assisted, sponsored, or provided financial, material, or technological support for, or goods and services to or in support of, GARANTEX EUROPE OU, a person whose property and interests in property are blocked pursuant to E.O. 13694, as further amended.

3. A71 LIMITED LIABILITY COMPANY (a.k.a. OBSHCHESTVO S OGRANICHENNOI OTVETSTVENNOSTYU A71; a.k.a. “A71 LLC”), Ul. Lesnaya D. 9 Pomeshch. 2/10, Moscow 125196, Russia; Secondary sanctions risk: Ukraine-/Russia-Related Sanctions Regulations, 31 CFR 589.201; Organization Established Date 26 Sep 2024; Organization Type: Other financial service activities, except insurance and pension funding activities, n.e.c.; Tax ID No. 9710138137 (Russia); Registration Number 1247700638514 (Russia) [CYBER4] (Linked To: A7 LIMITED LIABILITY COMPANY).

Designated pursuant to section 1(a)(iii)(D) of E.O. 13694, as further amended, for being owned or controlled by, or having acted or purported to act for or on behalf of, directly or indirectly, A7 LIMITED LIABILITY COMPANY, a person whose property and interests in property are blocked pursuant to E.O. 13694, as further amended.

4. EXVED, Russia; website exved.com; Secondary sanctions risk: Ukraine-/Russia-Related Sanctions Regulations, 31 CFR 589.201; Organization Established Date 07 Dec 2023; Organization Type: Financial and Insurance Activities [CYBER4] (Linked To: MENDELEEV, Sergey).

Designated pursuant to section 1(a)(iii)(D) of E.O. 13694, as further amended, for being owned or controlled by, or having acted or purported to act for or on behalf of, directly or indirectly, MENDELEEV, Sergey, a person whose property and interests in property are blocked pursuant to E.O. 13694, as further amended.

5. GARANTEX EUROPE OU (Latin: GARANTEX EUROPE OÜ) (a.k.a. GARANTEX), Harju maakond, Kesklinna linnaosa, J., Poska tn 51a/1-3, Tallinn 10150, Estonia; Harju maakond, Lasnamae linnaosa, Peterburi tee 47, Tallinn 11415, Estonia; Moscow, Russia; St. Petersburg, Russia; 12, Presnenskaya Embankment, Floor 14, Federation East Tower, Moscow City, Moscow, Russia; website garantex.io; alt. Website garantex.org; Digital Currency Address—XBT 3Lpoy53K625zVeE47ZasiG5jGkAxJ27kh1; Digital Currency Address—ETH 0x7FF9cFad3877F21d41Da833E2F775dB0569eE3D9; alt. Digital Currency Address—ETH 0x8Dce2aAC0dE82bdCAf6b4373B79f94331b8e4995; alt. Digital Currency Address—ETH 0xf4377edA661e04B6DDA78969796Ed31658D602D4; alt. Digital Currency Address—ETH 0xb338962B92CD818D6aef0A32a9ECD01212a71f33; alt. Digital Currency Address—ETH 0x57EC89A0C056163A0314e413320f9B3ABe761259; alt. Digital Currency Address—ETH 0xD8500C631dC32FA18645B7436344a99E4825e10e; alt. Digital Currency Address—ETH 0x7CEd75026204aC29C34bEA98905D4C949F27361e; Secondary sanctions risk: See Section 11 of Executive Order 14024.; alt. Secondary sanctions risk: Ukraine-/Russia-Related Sanctions Regulations, 31 CFR 589.201; Organization Established Date 18 Nov 2019; Digital Currency Address—USDT 3E6ZCKRrsdPc35chA9Eftp1h3DLW18NFNV; Digital Currency Address—TRX TFwjPScaJRCbSWVAywE1S1WgaUgSnyYUbD; alt. Digital Currency Address—TRX TJkBr9TZ1xBeJoF7RNWqyEMbYqVJ6fXXHR; alt. Digital Currency Address—TRX TNDjh6WGLYyWmkh8vfu42bXVHUqFNQ3rDq; Business Registration Number 14850239 (Estonia) issued 18 Nov 2019 [RUSSIA-EO14024] [CYBER4].

Designated pursuant to section 1(a)(iii)(C) of E.O. 13694, as further amended, for having materially assisted, sponsored, or provided financial, material, or technological support for, or goods and services to or in support of, cyber-enabled activities originating from, or directed by persons located, in whole or in substantial part, outside the United States that is reasonably likely to result in, or has materially contributed to, a threat to the national security, foreign policy, or economic health or financial stability of the United States, and that has the purpose of or involves causing a misappropriation of funds or economic resources, intellectual property, proprietary or business confidential information, personal identifiers, or financial information for commercial or competitive advantage or private financial gain.

6. GRINEX (a.k.a. OBSHCHESTVO S OGRANICHENNOI OTVETSTVENN-OSTYU GRINEKS), Moscow, Russia; Microdistrict Dzhal 29, Building 14/1, Room 35, Leninsky District, Bishkek, Kyrgyzstan; Secondary sanctions risk: Ukraine-/Russia-Related Sanctions Regulations, 31 CFR 589.201; Organization Established Date 23 Dec 2024; Organization Type: Financial and Insurance Activities; Digital Currency Address—TRX TEcuHDQthTmULe8fFLUccBPpjfXaTmJuuD; alt. Digital Currency Address—TRX TL1k1U6SHohxBqb68kCodxHc9y2LXoDSep; alt. Digital Currency Address—TRX TNZxGWCwvsHr6JxQxzoeDXV597Yf7Zb7nV; alt. Digital Currency Address—TRX TC8axQvzJEVR3NKN6mZnJtGy7537GEmh38; alt. Digital Currency Address—TRX TAYhjpL8pPs8T84FSM329nffQpc6jD8GBM; alt. Digital Currency Address—TRX TMuCgBejD5RsNANZdjGtaM3YyKGNgDoy7N; alt. Digital Currency Address—TRX TGckaiamj5NzaYx6Qp6Zu7kahuHArzUo99; Tax ID No. 02312202410120 (Kyrgyzstan); Registration Number 311748 3301 OOO (Kyrgyzstan) [CYBER4] (Linked To: GARANTEX EUROPE OU).

Designated pursuant to section 1(a)(iii)(D) of E.O. 13694, as further amended, for being owned or controlled by, or having acted or purported to act for or on behalf of, directly or indirectly, GARANTEX EUROPE OU, a person whose property and interests in property are blocked pursuant to E.O. 13694, as further amended.

7. INDEPENDENT DECENTRALIZED FINANCE SMARTBANK AND ECOSYSTEM (a.k.a. INDEFI SMARTBANK), Russia; website indefibank.com; Secondary sanctions risk: Ukraine-/Russia-Related Sanctions Regulations, 31 CFR 589.201; Organization Established Date 2020; Organization Type: Financial and Insurance Activities [CYBER4] (Linked To: MENDELEEV, Sergey).

Designated pursuant to section 1(a)(iii)(D) of E.O. 13694, as further amended, for being owned or controlled by, or having acted or purported to act for or on behalf of, directly or indirectly, MENDELEEV, Sergey, a person whose property and interests in property are blocked pursuant to E.O. 13694, as further amended.

8. OLD VECTOR LLC (a.k.a. OBSHCHESTVO S OGRANICHENNOI OTVETSTVENNOSTYU OLD VEKTOR), 172 Zh/M Archa Beshik, Ul. Kyzyl Adyr, Leninsky District, Bishkek, Kyrgyzstan; Digital Currency Address—ETH 0x12de548F79a50D2bd05481C8515C1eF5183666a9; Secondary sanctions risk: Ukraine-/Russia-Related Sanctions Regulations, 31 CFR 589.201; Organization Established Date 13 Dec 2024; Organization Type: Non-specialized wholesale trade; Digital Currency Address—TRX TCFD8N3vM5b4Gr5f1kkajQsodRVNyyAq1d; Tax ID No. 01312202410041 (Kyrgyzstan); Registration Number 311479 3301 OOO (Kyrgyzstan) [CYBER4] (Linked To: A7 LIMITED LIABILITY COMPANY).

Designated pursuant to section 1(a)(iii)(C) of E.O. 13694, as further amended, for having materially assisted, sponsored, or provided financial, material, or technological support for, or goods and services to or in support of, A7 LIMITED LIABILITY COMPANY, a person whose property and interests in property are blocked pursuant to E.O. 13694, as further amended.

Bradley T. Smith,
Director, Office of Foreign Assets Control.

[FR Doc. 2025-15668 Filed 8-15-25; 8:45 am]

BILLING CODE 4810-AL-P